NATIONAL SCIENCE FOUNDATION

Sunshine Act Meetings; National Science Board

The National Science Board's Committee on Programs and Plans (CPP) and Subcommittee on Facilities (SCF), pursuant to NSF regulations (45 CFR part 614), the National Science Foundation Act, as amended (42 U.S.C. 1862n-5), and the Government in the Sunshine Act (5 U.S.C. 552b), hereby gives notice of the scheduling of a teleconference for the transaction of National Science Board business, as follows:

DATE AND TIME: Friday, April 3, 2015 at 1 p.m. EDT.

SUBJECT MATTER: Chairmen's remarks and discussion of NSF's draft response to the Decadal Survey of Ocean Sciences (DSOS) report.

STATUS: Closed.

This meeting will be held by teleconference. Please refer to the National Science Board Web site www.nsf.gov/nsb for additional information and schedule updates (time, place, subject matter or status of meeting) which may be found at http://www.nsf.gov/nsb/notices/. Point of contact for this meeting is John Veysey at jveysey@nsf.gov.

Ann Bushmiller,
Senior Counsel to the National Science Board.

[FR Doc. 2015-07467 Filed 3-27-15; 4:15 pm]

BILLING CODE 7555-01-P